FEDERAL COMMUNICATIONS COMMISSION

Radio Broadcasting Services; AM or FM Proposals To Change The Community of License

AGENCY: Federal Communications Commission.

ACTION: Notice.

SUMMARY: The following applicants filed AM or FM proposals to change the community of License: CSSI Non-Profit Educational Broadcasting Corporation, Station KYQX, Facility ID 62040, BMPED-20161202ABT, From Weatherford, TX, To Mineral Wells, TX; Gois Broadcasting Boston, LLC, Station WLLH, Facility ID 24971, BP-20161110AAP, From Lowell, MA, To Lawrence, MA; Grace Baptist Church of Orangeburg, Station WWOS, Facility ID 38899, BP-20161020ABD, From St. George, SC, To Walterboro, SC; Great Northern Broadcasting System, Inc., Station WLDR-FM, Facility ID 24974, BPH-20161128AFR, From Traverse City, MI, To Beulah, MI; Northwest Georgia Broadcasting, Station WYXC, Facility ID 19541, BP-20161107ACA, From Cartersville, GA, To East Point, GA; Premiere Enterprises, LLC, Station WALI, Facility ID 25206, BPH-20161020ABE, From Walterboro, SC, To Burton, SC; Revival Christian Ministries, Inc., Station WSGG, Facility ID 92857, BPED-20161110ABC, From Norfolk, CT, To Canaan, CT; Roy E. Henderson, Station WOUF, Facility ID 14646, BPH-20161128AFT, From Beulah, MI, To Traverse City, MI.

DATES: The agency must receive comments on or before February 21, 2017.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2016-30678 Filed 12-20-16; 8:45 am]

BILLING CODE 6712-01-P